NATIONAL AERONAUTICS AND SPACE ADMINISTRATION

[Notice 00-014]

NASA Advisory Council (NAC), Space Science Advisory Committee (SScAC), Astronomical Search for Origins and Planetary Systems (ORIGINS); Subcommittee Meeting

AGENCY: National Aeronautics and Space Administration.

ACTION: Notice of Meeting.

SUMMARY: In accordance with the Federal Advisory Committee Act, Pub. L. 92-463, as amended, the National Aeronautics and Space Administration announces a forthcoming meeting of the NASA Advisory Council, Space Science Advisory Committee, ORIGINS Subcommittee.

DATES: Tuesday, February 15, 2000, 8 a.m. to 5 p.m.; Wednesday, February 16, 2000, 8 a.m. to 5 p.m.; Thursday, February 17, 2000, 8 a.m. to 2 p.m.

ADDRESSES: Ames Research Center, Building 240, room 202, Moffett Field, California 94035-1000.

FOR FURTHER INFORMATION CONTACT: Dr. Anne L. Kinney, Code S, National Aeronautics and Space Administration, Washington, DC 20546, 202/358-0362.

SUPPLEMENTARY INFORMATION: The meeting will be open to the public up to the capacity of the room. The agenda for the meeting includes the following topics:

—Update of Office of Space Science

—Update on Origins

—Present Science Content

—Astrobiology (The Institute and the Program)

—Hubble Space Telescope Status

It is imperative that the meeting be held on these dates to accommodate the scheduling priorities of the key participants. Visitors will be requested to sign a visitor's register.

Dated: January 24, 2000.
Matthew M. Crouch,
Advisory Committee Management Officer, National Aeronautics and Space Administration.

[FR Doc. 00-2052 Filed 1-31-00; 8:45 am]

BILLING CODE 7510-01-P